DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Sacramento Regional Transit District

[Petition Docket Number FRA-2006-24216]

As a supplement to Sacramento Regional Transit District's (SRTD) Petition for Approval of Shared Use (Shared Corridor) and waiver of Certain FRA Regulations (the original shared corridor waiver was granted by the FRA Railroad Safety Board on September 1, 2003), SRTD seeks a permanent waiver of compliance from additional sections of Title 49 of the CFR for continued safe operation of its 18.3-mile Light Rail Transit (RT System) everywhere it shares a corridor and corresponding highway-rail grade crossings with the Union Pacific Railroad (UPRR). SRTD submits that this request is consistent with the waiver process for Shared Use. See Statement of Agency Policy Concerning Jurisdiction Over the Safety of Railroad Passenger Operations and Waivers Related to Shared Use of the Tracks of the General Railroad System by Light Rail and Conventional Equipment, 65 FR 42529 (July 10, 2000); see also Joint Statement of Agency Policy Concerning Shared Use of the Tracks of the General Railroad System by Conventional Railroads and Light Rail Transit Systems, 65 FR 42626 (July 10, 2000).

The RT System operates on its own tracks in certain rail corridors also used by UPRR for freight rail operations over adjacent tracks. The RT System and the UPRR share 18 public highway-rail grade crossings on the Placerville Branch, a rail corridor owned by Sacramento-Placerville Transportation Corridor Joint Powers Authority (SPTC-JPA) that extends between milepost (MP) 97.0 and MP 110. The RT System and UPRR also share 11 public highway-rail grade crossings on the UPRR mainline between approximately MP 131 and MP 137.9.

SRTD states that since it began light rail service in 1987, the RT System utilized a 75 dbA gong on its vehicles to sound an audible warning at highway-rail grade crossings. On June 24, 2005, the RT System began using a 95-100 dbA vehicle horn instead of the 75 dbA gong. In March, 2006, SRTD finished installing new 75dbA “clatter” gongs in its vehicle fleet, which are being sounded at highway-rail grade crossings in place of the 95-100 dbA horn.

On April 27, 2005, the FRA issued the Final Rule on Use of Locomotive Horns at Highway-Rail Grade Crossings, 69 FR 21844 (2005), with an effective date on June 24, 2005. SRTD is working with the City of Rancho Cordova and the County of Sacramento to evaluate the feasibility of establishing Quiet Zones along portions of the RT System, but is concerned about the anticipated costs of implementing such Zones. With the exception of the Quiet Zone established by the City of Sacramento between C street downtown and Meadowview Road between 7AM and 6AM (previously filed as a Pre-Rule Partial Quiet Zone Notice), RT System LRVs along all shared public highway-rail grade crossings with the UPRR are sounding either a 95-100 dbA horn or 75 dbA “clatter” gong that complies with the Final Horn Rule sound pattern requirements of CFR part 222. Because the RT System is running through residential areas, SRTD is receiving complaints from local residents about the noise of these horns and “clatter” gongs and would like to return to its historical practice of using 75 dbA gongs. SRTD states that the 75 dbA gong complies with all applicable sound level requirements of the California Public Utilities Commission (CPUC) as set forth in General Order 143-B. The proposed 75 dbA gong sounding practice at shared highway-rail grade crossings has been the standard operating practice from 1987 until June 2005, and in such time, has had only 20 reportable accidents or incidents. SRTD further states that light rail operations are significantly different in character from freight rail operations and the audible warning procedures for the RT System's LRVs reflect those differences. Accordingly, SRTD seeks a waiver of compliance with certain sections of CFR part 229.129 (minimum horn decibel requirements) and CFR part 222.21 regarding start time, pattern, and duration requirements. (Section 229.129(d) clearly excepts locomotives of rapid transit operations, notwithstanding preamble discussion in the final rule to the contrary; accordingly this portion of the request for relief will be dismissed and comment is not requested on this aspect of the request for relief.)

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communication concerning these proceedings should identify the appropriate docket number (e.g., Waiver Petition Docket Number FRA-2006-24216) and must be submitted to the Docket Clerk, DOT Docket Management Facility, Room PL-401 (Plaza Level), 400 7th Street, SW., Washington, DC 20590. Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC, on May 1, 2006.
Grady C. Cothen, Jr.,
Deputy Associate Administrator for Safety Standards and Program Development.

[FR Doc. E6-6788 Filed 5-4-06; 8:45 am]

BILLING CODE 4910-06-P